FEDERAL COMMUNICATIONS COMMISSION

[CG Docket No. 09-158; DA 11-661]

The Consumer and Governmental Affairs Bureau Seeks Comment on “Need for Speed” Information for Consumers of Broadband Services

AGENCY: Federal Communications Commission.

ACTION: Notice.

SUMMARY: In this document, the Commission, via the Consumer and Governmental Affairs Bureau (Bureau), seeks input on the information necessary for consumers to make informed choices among competing broadband Internet access services. According to the most recently available data, many consumers lack information about their broadband connection's performance and its ability to support different services and activities online. This document seeks comment about the speed and performance required for the range of Internet applications consumers intend to use, and how to communicate that information to consumers.

DATES: Comments are due on or before May 26, 2011. Reply comments are due on or before June 16, 2011.

ADDRESSES: You may submit comments identified by [CG Docket No. 09-158], and by any of the following methods:

• Electronic Filers: Comments may be filed electronically using the Internet by accessing the Commission's Electronic Comment Filing System (ECFS): http://www.fcc.gov/cgb/ecfs2/. Filers should follow the instructions provided on the Web site for submitting comments. For ECFS Filers, in completing the transmittal screen, filers should include their full name, U.S. Postal Service mailing address, and the applicable docket, which in this instance is CG Docket No. 09-158.

• Paper Filers: Parties who choose to file by paper must file an original and four copies of each filing. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street, SW., Room TW-A325, Washington, DC 20554. All hand deliveries must be held together with rubber bands or fasteners. Any envelopes must be disposed of before entering the building. The filing hours are 8 a.m. to 7 p.m.

• Commercial overnight mail (other than U.S. Postal Service Express Mail and Priority Mail) must be sent to 9300 East Hampton Drive, Capitol Heights, MD 20743. U.S. Postal Service first-class, Express, and Priority mail must be addressed to 445 12th Street, SW., Washington, DC 20554.

In addition, parties must serve one copy of each pleading with the Commission's duplicating contractor, Best Copy and Printing, Inc., 445 12th Street, SW., Room CY-B402, Washington, DC 20554, or via e-mail to fcc@bcpiweb.com.

FOR FURTHER INFORMATION CONTACT: Ellen Satterwhite, Consumer and Governmental Affairs Bureau, at (202) 418-3626 (voice), or e-mail at Ellen.Satterwhite@fcc.gov.

SUPPLEMENTARY INFORMATION: This is a summary of the Commission's document, DA 11-661, released April 11, 2011 in CG Docket No. 09-158. The full text of document DA 11-661 and copies of any subsequently filed documents in this matter will be available for public inspection and copying via ECFS (insert [CG Docket No. 09-158] into the Proceeding block) and during regular business hours at the FCC Reference Information Center, Portals II, 445 12th Street, SW, Room CY-A257, Washington, DC 20554. They may also be purchased from the Commission's duplicating contractor, Best Copy and Printing, Inc., Portals II, 445 12th Street, SW., Room CY-B402, Washington, DC 20554, telephone: (800) 378-3160, fax: (202) 488-5563, or via its Web site, http://www.bcpiweb.com.

Pursuant to 47 CFR 1.1200 et seq., this matter shall be treated as a “permit-but-disclose” proceeding in accordance with the Commission's ex parte rules. Persons making oral ex parte presentations are reminded that memoranda summarizing the presentations must contain summaries of the substance of the presentation and not merely a listing of the subjects discussed. More than a one or two sentence description of the views and arguments presented is generally required. Other rules pertaining to oral and written presentations are set forth in 47 CFR 1.1206(b).

People with Disabilities: To request materials in accessible formats for people with disabilities (Braille, large print, electronic files, audio format), send an e-mail to fcc504@fcc.gov or call the Consumer and Governmental Affairs Bureau at (202) 418-0530 (voice) or (202) 418-0432 (TTY).

Synopsis

In document DA 11-661, the Bureau seeks input on the information necessary for consumers to make informed choices among competing broadband Internet access services. In particular, document DA 11-661 seeks comment about the speed and performance required for the range of Internet applications consumers intend to use, and how to communicate that information to consumers. According to data collected by the Commission, many consumers lack information about their connection's performance and its ability to support different services and activities online. The lack of such information hampers consumers' ability to compare tiers of service offered by and among providers.

Consumers rely on Internet-based applications and services that place a wide range of demands on broadband network, and consumers' experiences can be impacted by a broadband service's speed, latency, and jitter. Document DA 11-661 seeks input on the information that is most useful to consumers assessing which broadband service to purchase. This is part of the Commission's ongoing effort to ensure that consumers have access to the information they need about the communications services they purchase and use.

The Bureau seeks comment on the service characteristics that consumers need to consider to determine broadband performance requirements and the most effective way to ensure consumers are informed about their broadband performance needs.

Federal Communications Commission.
Mark Stone,
Deputy Chief, Consumer and Governmental Affairs Bureau.

[FR Doc. 2011-9624 Filed 4-19-11; 8:45 am]

BILLING CODE 6712-01-P